DEPARTMENT OF THE TREASURY

Public Meeting of the President's Advisory Panel on Federal Tax Reform

AGENCY: Department of the Treasury.

ACTION: Change in meeting date and time.

SUMMARY: This notice advises all interested persons of a change in the date and time of a public meeting of the President's Advisory Panel on Federal Tax Reform.

DATES: The meeting previously scheduled for Thursday, October 27, 2005, and announced in 70 FR 59394 (October 12, 2005), has been rescheduled for Monday, October 31, 2005. The meeting will be held via teleconference and will begin at 2:30 p.m. Eastern Standard Time. This time may be subject to change. Interested parties will be able to listen to the meeting. Call-in information and updated time information will be posted on the Panel's Web site, http://www.taxreformpanel.gov.

FOR FURTHER INFORMATION CONTACT: The Panel staff at (202) 927-2TAX (927-2829) (not a toll-free call) or e-mail info@taxreformpanel.gov (please do not send comments to this box). Additional information is available at http://www.taxreformpanel.gov.

SUPPLEMENTARY INFORMATION: Purpose: The October 31 meeting is the thirteenth meeting of the Advisory Panel. Due to exceptional circumstances concerning scheduling, this Notice is being published at this time. At this meeting, the Panel will finalize any remaining matters that may be pending before the Panel.

Comments: Interested parties are invited to call into the teleconference to listen to the meeting; however, no public comments will be heard at the meeting. Any written comments with respect to this meeting may be mailed to The President's Advisory Panel on Federal Tax Reform, 1440 New York Avenue NW., Suite 2100, Washington, DC 20220. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday except holidays. The public entrance to the reading room is on Pennsylvania Avenue between 10th and 12th streets. The phone number is (202) 622-5164 (not a toll-free number). Advisory Panel documents, including meeting announcements, agendas, and minutes, will also be available on http://www.taxreformpanel.gov.

Dated: October 24, 2005.
Mark S. Kaizen,
Designated Federal Officer.

[FR Doc. 05-21475 Filed 10-25-05; 8:45 am]

BILLING CODE 4811-37-P